DEPARTMENT OF THE INTERIOR

Bureau of Land Management

[NM-910-00-1020-PB]

New Mexico Resource Advisory Council Meeting

AGENCY: Bureau of Land Management, Interior.

ACTION: Notice of council meeting.

SUMMARY: In accordance with the Federal Land Policy and Management Act and the Federal Advisory Committee Act of 1972 (FACA), 5 U.S.C. Appendix 1, The Department of the Interior, Bureau of Land Management (BLM), announces a meeting of the New Mexico Resource Advisory Council (RAC). The meeting will be held on October 12 and 13, 2000, at the Copper Manor Motel, 710 Silver Heights Blvd, Silver City, NM 88062.

There will be an optional all day field trip on Wednesday, October 11, 2000. Transportation will be provided for RAC members. The optional field trip will be organized by the Las Cruces Field Office of the Bureau of Land Management and hosted by Phelps Dodge Mining Company, which operates the Chino, Tyrone and Cobre mines near Silver City.

The Field Tour will leave from the Copper Manor Motel at 8:00 a.m. and proceed to the Gila River area near Cliff, NM. Mr. Thomas L. Shelley, Manager of Environmental Services at Phelps Dodge Tyrone, Inc., will provide a tour of Southwestern Willow Flycatcher habitat managed by the Tyrone Mine. The Southwestern Willow Flycatcher is a small, migratory bird classified as endangered by the Endangered Species Act. This portion of the Gila River valley is home to the largest known population of this species. The tour will proceed to the Chino Mine. An overview presentation of the Chino facility will be given. The Chino Mine will be toured during the afternoon. The tour will return to Silver City by 5:00 p.m.

The meeting on Thursday, October 12, 2000, starts at 8:00 a.m. and will end about 5:00 p.m.

The three established RAC Subcommittees may have late afternoon or evening meetings on this day. The exact time and location of the Subcommittee meetings will be established by the Chairperson of each Subcommittee earlier in the day during the RAC meeting. On Friday, October 13, 2000, the meeting starts at 8:00 a.m. and will end about 3:00 p.m. The ending time of 3:00 p.m. may be changed depending on the work remaining for the RAC. The draft agenda for the RAC meeting includes agreement on the meeting agenda, any RAC comments on the draft minutes of the last RAC meeting on August 23 through 25, 2000, in Gallup, NM, a check-in from the RAC members and the following planned presentations that also include discussion: A brief review of the OHV issue which was discussed in depth at the last meeting, an overview by Joseph Brunner, Manager of Environmental Services, Chino Mine Services, of a project to study the impacts of historic mining operations on human health and the environment in and around the Santa Rita Mine, and to remediate those impacts, and a presentation by Eddie Humphrey, Manager of Environmental remediation at the Pinos Altos Mine Reclamation Project, a small underground mine near Silver City. The Bureau of Land Management and the State of New Mexico will also provide speakers on the main topics. Jon Borne, New Mexico State University, Regional Task Force on the Southwestern Willow Flycatcher has been invited, as well a speaker from New Mexico Energy, Minerals and Natural Resources.

The meeting is open to the public, and starting at 2:45 p.m. on Thursday, October 12, 2000, there will be an additional 15 minute Public Comment Period for members of the public who are not able to be present for the regular Public Comment Period on Friday, October 13, to address the RAC. The meeting on Friday, August 25 will start at 8:00 a.m. with a review of the agenda thus far. At 8:15 a.m., BLM State of the Field Office Reports will take place, presented by Field Office managers with a concentration on conditions of grazing allotments, community based planning, abandoned mines, assessments of fundamentals (Standards and Guidelines).

The regular Public Comment Period for the Public to address the RAC is on Friday, August 25, 2000, from 10:00 a.m. to 12:00 noon. The RAC may reduce or extend the end time of 12:00 noon depending on the number of people wishing to address the RAC. Anyone wishing to address the RAC should be present at the 10:00 a.m. starting time. The length of time available for each person to address the RAC will be established at the start of the public comment period and will depend on how many people wish to address the RAC. At the completion of public comments, the RAC may continue discussion on its agenda items. Scheduled at 1:00 p.m. are RAC Subcommittee Reports from the Urban and Open Space Subcommittee, the Roads and Trails Subcommittee, and the Oil and Gas Subcommittee. These reports are followed by RAC discussions and any RAC recommendations, development of draft agenda items, selection of a location for the next RAC meeting and a RAC assessment of the current meeting.

FOR FURTHER INFORMATION CONTACT: Mary White, New Mexico State Office, Office of External Affairs, Bureau of Land Management, 1474 Rodeo Road, P.O. Box 27115, Santa Fe, New Mexico 87502-0115, telephone (505) 438-7404.

SUPPLEMENTARY INFORMATION: The purpose of the Resource Advisory Council is to advise the Secretary of the Interior, through the BLM, on a variety of planning and management issues associated with the management of public lands. The Council's responsibilities include providing advice on long-range planning, establishing resource management priorities and assisting the BLM to identify State and regional standards for rangeland health and guidelines for grazing management.

Dated: September 5, 2000.
Richard A. Whitley,
Associate State Director.

[FR Doc. 00-23319 Filed 9-11-00; 8:45 am]

BILLING CODE 4310-FB-M